DEPARTMENT OF ENERGY

Federal Energy Regulatory Commission

[Docket No. CP16-357-000; Docket No. CP16-361-000]

Columbia Gas Transmission, LLC, Columbia Gulf Transmission, LLC; Notice of Schedule for Environmental Review of the Mountaineer XPress Project and the Gulf XPress Project

On April 29, 2016, Columbia Gas Transmission, LLC (Columbia Gas) and Columbia Gulf Transmission, LLC (Columbia Gulf) filed applications in Docket Nos. CP16-357-000 and CP16-361-000, respectively, requesting Certificates of Public Convenience and Necessity pursuant to Sections 7(b) and 7(c) of the Natural Gas Act to construct, operate, and maintain certain natural gas pipeline facilities. Columbia Gas' proposed Mountaineer XPress Project in West Virginia would transport up to 2,700,000 dekatherms per day (Dth/d) of natural gas from receipt points in West Virginia, Ohio, and Pennsylvania, to markets on the Columbia Pipeline Group system. Columbia Gulf's proposed Gulf XPress Project in Kentucky, Tennessee, and Mississippi would expand the capacity of Columbia Gulf's existing system to allow for an additional 860,000 Dth/d of natural gas delivery to high-demand markets in the Gulf Coast region. Because these are interrelated projects, the Federal Energy Regulatory Commission (FERC or Commission) deemed it was appropriate to analyze them in a single environmental impact statement (EIS).

FERC issued respective Notices of Application for the Mountaineer XPress and Gulf XPress Projects on May 13, 2016. Among other things, those notices alerted other agencies issuing federal authorizations of the requirement to complete all necessary reviews and to reach a final decision on the request for a federal authorization within 90 days of the date of issuance of the Commission staff's final EIS for the two projects. This instant notice identifies the FERC staff's planned schedule for completion of the final EIS for the projects, which is based on an issuance of the draft EIS in November 2016.

Schedule for Environmental Review

Issuance of Notice of Availability of the final EIS—April 28, 2017

90-day Federal Authorization Decision Deadline—July 27, 2017

If a schedule change becomes necessary for the final EIS, an additional notice will be provided so that the relevant agencies are kept informed of the projects' progress.

Project Description

The Mountaineer XPress Project consists of new pipeline and compression facilities, all in the state of West Virginia. The major proposed facilities include 163.9 miles of new 36-inch-diameter pipeline in Marshall and Cabell Counties; 5.8 miles of new 24-inch-diameter pipeline in Doddridge County; 0.4 mile of replacement 30-inch-diameter pipeline on segments of Columbia Gas' SM80 and SM80 loop pipelines in Cabell County; three new compressor stations (totaling 106,300 horsepower) in Doddridge, Calhoun, and Jackson Counties; two new regulating stations in Ripley and Cabell Counties; and added compression at three existing compressor stations in Marshall, Wayne, and Kanawha Counties.

The Gulf XPress Project consists of construction and operation of seven new compressor stations, and upgrades at one existing meter station and one pending compressor station (under Docket No. CP15-539) on Columbia Gulf's existing system, spread across Kentucky (Carter, Boyd, Rowan, Garrard, and Metcalfe Counties), Tennessee (Davidson and Wayne Counties), and Mississippi (Union and Grenada Counties).

Background

On September 16, 2015, the Commission staff granted Columbia Gas' request to use the FERC's Pre-filing environmental review process and assigned the Mountaineer XPress Project temporary Docket No. PF15-31-000. On November 18, 2015, the Commission issued a Notice of Intent to Prepare an Environmental Impact Statement for the Planned Mountaineer XPress Project, Request for Comments on Environmental Issues, and Notice of Public Scoping Meetings. The Gulf XPress Project did not utilize the FERC's Pre-filing environmental process, and on June 2, 2016, the Commission issued a Notice of Intent to Prepare an Environmental Impact Statement for the Proposed Gulf XPress Project, Request for Comments on Environmental Issues, and Notice of Public Scoping Meeting.

The Notices of Intent were sent to our environmental mailing list that include federal, state, and local government agencies; elected officials; affected landowners; regional environmental groups and nongovernmental organizations; Native Americans and Indian tribes; local libraries and newspapers; and other interested parties. Major environmental issues raised during scoping included karst terrain; impacts on groundwater and surface waterbodies; impacts on forests; impacts on special status species; impacts on property values and the use of eminent domain; impacts on the local economy; impacts on historic properties and districts; visual impacts from compressor stations; impacts on land use; impacts on air quality and noise from construction and operation of pipeline facilities; and public health and safety.

The U.S. Army Corps of Engineers; U.S. Environmental Protection Agency; West Virginia Department of Environmental Protection; and West Virginia Division of Natural Resources are cooperating agencies in the preparation of the EIS.

Additional Information

In order to receive notification of the issuance of the EIS and to keep track of all formal issuances and submittals in specific dockets, the Commission offers a free service called eSubscription (http://www.ferc.gov/docs-filing/esubscription.asp). Additional data about the projects can be obtained electronically through the Commission's Internet Web site (www.ferc.gov). Under “Dockets & Filings,” use the “eLibrary” link, select “General Search” from the menu, enter the docket numbers excluding the last three digits (i.e., CP16-357 or CP16-361), and the search dates. Questions about the projects can be directed to the Commission's Office of External Affairs at (866) 208-FERC.

Dated: September 14, 2016.
Kimberly D. Bose,
Secretary.

[FR Doc. 2016-22604 Filed 9-19-16; 8:45 am]

BILLING CODE 6717-01-P